NUCLEAR REGULATORY COMMISSION

Consolidated Guidance: 10 CFR Part 20—Standards for Protection Against Radiation

AGENCY: U.S. Nuclear Regulatory Commission (NRC).

ACTION: Notice of availability and request for comments.

SUMMARY: The NRC is announcing the availability of, and requesting comments on, draft NUREG-1736, “Consolidated Guidance: 10 CFR Part 20—Standards for Protection Against Radiation,” dated September 2000. This document, consolidates numerous guidance documents into a single, comprehensive source. It complements the NUREG-1556 series, “Consolidated Guidance about Materials Licenses.” Since Part 20 applies to all NRC licensees, in varying degrees, the applicability of this document extends beyond the materials scope of the NUREG-1556 series. This document is intended for use by applicants, all licensees, Part 76 certificate holders, NRC license reviewers, inspectors, and other NRC personnel. It combines references to the guidance for applicants and licensees previously found in various Regulatory Guides, NUREG reports, Information Notices, etc.

Discussion: Each section within NUREG 1736 provides the following:

• A statement of the requirement (reflecting revisions published in the Federal Register through October 13, 1999);

• A discussion of the requirement;

• A statement of the requirement's applicability;

• A guidance statement;

• A list of existing regulatory guidance (Regulatory Guides, NUREG reports);

• A list of existing implementation guidance (Information Notices, health physics positions, Part 20 questions and answers, etc.).

This document also identifies prior guidance, which is now outdated. For those “Existing Regulatory Guidance Documents” that are designated as “outdated,” plans will be underway for withdrawal or revision prior to this document being published in its final form. Documents in this category are limited to Regulatory Guides. “Implementing Guidance Documents,” or document sections, that are designated as “outdated” are considered historical and are presently not subject to updating or augmenting. This “outdated” guidance is being superceded by the guidance contained within NUREG 1736. Documents in this category include Health Physics Positions (HPPOS), Part 20 Questions and Answers (Q&As), and Circulars.

Note that this document is strictly for public comment. It is not for use in preparing, reviewing, or implementing licenses until it is published in its final form. It is being distributed for comments to encourage public participation in its development. The NRC staff's disposition of public comments will be documented in NUREG 1736 as an appendix once it is published in its final form, and will be made publicly available electronically by visiting the NRC's Home Page (http://www.nrc.gov/nrc/nucmat.html).

DATES: The comment period ends February 26, 2001. Comments received after that time will be considered if practicable.

ADDRESSES: Submit written comments to: Chief, Rules and Directives Branch, Division of Administrative Services, Office of Administration, U.S. Nuclear Regulatory Commission, Washington, D.C. 20555-0001. Hand-deliver comments to 11545 Rockville Pike, Rockville, Maryland, between 7:15 a.m. and 4:30 p.m. on Federal workdays. Comments may also be submitted through the Internet by addressing electronic mail to dlm1@nrc.gov.

Those considering public comment may request a free single copy of draft NUREG-1736, by writing to the U.S. Nuclear Regulatory Commission, ATTN: Mrs. Carrie Brown, Mail Stop TWFN 9-C24, Washington, D.C. 20555-0001. Alternatively, submit requests through the Internet by addressing electronic mail to cxb@nrc.gov. A copy of draft NUREG-1736, is also available for inspection and/or copying for a fee in the NRC Public Document Room, 2120 L Street, NW. (Lower Level), Washington, D.C. 20555-0001.

The Presidential Memorandum dated June 1, 1998, entitled, “Plain Language in Government Writing,” directed that the Federal government's writing be in plain language. The NRC requests comments on this licensing guidance NUREG specifically with respect to the clarity and effectiveness of the language used. Comments should be sent to the address listed above.

The NRC staff notes the correct title for NUREG 1736 is “Consolidated Guidance : 10 CFR Part 20—Standards for Protection Against Radiation.” This will be corrected once this document is issued in its final form.

FOR FURTHER INFORMATION, CONTACT: Mrs. Carrie Brown, TWFN 9-F-C24, Division of Industrial and Medical Nuclear Safety, Office of Nuclear Material Safety and Safeguards, U.S. Nuclear Regulatory Commission, Washington, D.C. 20555, telephone (301) 415-8092; electronic mail address: cxb@nrc.gov.

Electronic Access

Draft NUREG-1736 is available electronically by visiting the NRC's Home Page (http://www.nrc.gov/nrc/nucmat.html).

Dated at Rockville, Maryland, this 20th day of November, 2000.
For the Nuclear Regulatory Commission,
Patricia K. Holahan,
Chief, Rulemaking and Guidance Branch, Division of Industrial and Medical Nuclear Safety, NMSS.

[FR Doc. 00-30102 Filed 11-24-00; 8:45 am]

BILLING CODE 7590-01-P